DEPARTMENT OF COMMERCE

Submission for OMB Review: Comment Request

DOC has submitted to the Office of Management and Budget (OMB) for clearance the following proposal for collection of information under the provisions of the Paperwork Reduction Act of 1995, Public Law 104-13.

Bureau: International Trade Administration.

Title: User Satisfaction Surveys.

Agency Form Number: ITA-4107P, et al.

OMB Number: 0625-0217.

Type of Request: Revisions, Regular Submission.

Burden: 3,096.

Number of Respondents: 18,324.

Avg. Hours Per Response: 5-30 minutes.

Needs and Uses: ITA provides a multitude of export promotion programs to help U.S. businesses. These programs include information products, services, and trade events. To accomplish its mission effectively, ITA needs ongoing feedback on its programs. This information collection item allows ITA to solicit clients' opinions about the use of ITA products, services, and trade events. The information is used for program improvement, strategic planning, allocation of resources, and performance measures. The surveys are part of ITA's effort to implement objectives of the National Performance Review (NPR) and Government Performance and Results Act (GPRA). Responses to the surveys will meet the needs of ITA performance measures based on NPR and GPRA guidelines. These performance measures will serve as a basis for justifying and allocating human resources.

Survey responses will acquaint ITA managers with firms' perceptions and assessments of export-assistance products and services. Also, the survey will enable ITA to track the performance overseas posts. This information is critical for improving the programs. Survey responses are used to assess client satisfaction, assess priorities, and identify areas where service levels and benefits differ from client expectations. Clients benefit because the information is used to improve services provided to the public. Without this information, ITA is unable to systematically determine client perceptions about the quality and benefit of its export-promotion programs.

Affected Public: Businesses or other for profit, not-for-profit institutions.

Frequency: On occasion.

Respondents Obligation: Required to obtain or retain a benefit, voluntary.

OMB Desk Officer: David Rostker, (202) 395-7340.

Copies of the above information collection can be obtained by calling or writing Diana Hynek, Department Paperwork Clearance Officer, (202) 482-0266, Department of Commerce, Room 6625, 14th and Constitution Avenue, NW., Washington, DC 20230. E-mail: dHynek@doc.gov.

Written comments and recommendations for the proposed information collection should be sent to David Rostker, OMB Desk Officer, David_Rostker@omb.eop.gov or fax (202) 395-7285 within 30 days of the publication of this notice in the Federal Register.

Dated: September 13, 2005.
Madeleine Clayton,
Management Analyst, Office of the Chief Information Officer.

[FR Doc. 05-18500 Filed 9-16-05; 8:45 am]

BILLING CODE 3510-FP-P